CORPORATION FOR NATIONAL AND COMMUNITY SERVICE

Notice Inviting Applications for Technical and Administrative Support for the National Service-Learning Leader Schools Program

AGENCY: Corporation for National and Community Service.

ACTION: Notice inviting applications to administer program.

SUMMARY: The Corporation for National and Community Service (the Corporation) announces that it expects to have available up to $600,000 assistance to develop and implement the National Service-Learning Leader Schools program through a cooperative agreement with an organization selected under this notice. The program recognizes middle and high schools providing outstanding service-learning opportunities for students. Under this program, the Corporation intends to work with the selected organization to: (1) Work with experts to identify standards for high quality, broad-based service-learning programs in middle and high schools; (2) offer opportunities for all middle and high schools to address these standards in their Leader School award applications; (3) provide awards to a selected group of Leader Schools; and (4) provide training in leadership and service-learning to Leader Schools.

DATES: Proposals must be received by the Corporation by 5 p.m. Eastern Time on September 14, 2001. Applications may not be submitted by facsimile.

ADDRESSES: Submit proposals to the Corporation for National and Community Service, Department of Service-Learning, 1201 New York Avenue NW., Attention: Bob Bhaerman, Room 8307, Washington, DC, 20525.

FOR FURTHER INFORMATION CONTACT: Bob Bhaerman, (202) 606-5000, ext. 341, TTY (202) 565-2799; e-mail rbhaerma@cns.gov. This Notice is available on the Corporation's web site, http://www.nationalservice.org/whatshot/notices/. Upon request, this information will be made available in alternate forms for people with disabilities.

SUPPLEMENTARY INFORMATION:

I. Availability of Funds

The estimated amount of funds available for the award under this competition is based on the history of conducting the program for a one-year period; and the actual level of funding, if any, is contingent on the availability of appropriations.

II. Background

The Corporation is a federal government corporation that encourages Americans of all ages and backgrounds to engage in school-, college-, and community-based service. This service addresses the nation's educational, public safety, environmental, and other human needs. The Corporation funds K-12 service-learning programs that provide opportunities for students to become engaged citizens through active participation in thoughtfully organized service that is conducted in and meets the needs of a community and is integrated into academic and/or vocational curriculum.

The purpose of the National Service-Learning Leader Schools program is to encourage the development of service-learning programs at middle and high schools by recognizing high quality, broad-based service-learning programs in schools. The program is national in scope and involves practitioners in schools as well as service-learning personnel in State Education Agencies and other state and national education and service organizations.

The Corporation will enter into a cooperative agreement with the successful applicant who will work with representatives of the Corporation to administer the program, including working with existing Leader Schools, and other experts in education to revise a set of criteria to be used in selecting Leader Schools. These criteria include evidence that the school has (1) integrated community service into the academic and/or vocational curriculum, (2) conducted community service that is coordinated with the community and that meets identified needs of the community, (3) integrated service-learning into the culture and climate of the school, (4) developed activities that foster civic responsibility and student leadership, (5) provided structured time for students and teachers to reflect on the service experience, and (6) assessed the impact on service-learning on student learning, behavior, attendance, teaching methods, and/or the community.

III. Eligibility

Public agencies, non-profit organizations, institutions of higher education, Indian tribes, and for-profit companies are eligible to apply. Pursuant to the Lobbying Disclosure Act of 1995, 2 U.S.C. 1611, an organization described in section 501(c)(4) of the Internal Revenue Code of 1986, 26 U.S.C. 501(c) (4), that engages in lobbying activities is not eligible to apply.

IV. Conditions

(a) Legal Authority

Pursuant to the National and Community Service Act of 1990, as amended, 42 U.S.C. 12501, et seq., the Corporation may “support innovative and model programs.” Under this authority, the Corporation intends to support a National Service-Learning Leader School program.

(b) Cooperative Agreement

The award under this Notice will be in the form of a cooperative agreement. Administration of cooperative agreements is pursuant to Uniform Administrative Requirements in Corporation regulations, 45 CFR Part 2541 (for agreements with state and local government agencies) and 45 CFR Part 2543 (for agreements with institutions of higher education, hospitals, and other non-profit organizations and for-profit companies). The awardee must comply with semi-annual program and fiscal reporting requirements, linking progress to expenditures.

(c) Time Frame

The Corporation expects that the activities funded under the agreement will commence on or about October 1, 2001, following the conclusion of the selection and award process. The Corporation will make an award covering a period not to exceed three years. Applicants must include a proposed budget and proposed activities for three years, with a line-item budget and detailed work plan for the first one-year budget period only. The Corporation expects to have up to $600,000 available for the first year of this agreement, contingent on congressional appropriations for FY 2002. If the Corporation approves an application and enters into a multi-year award agreement, at the outset it will provide funding only for the first year of the award period as funds are made available by Congress. The Corporation has no obligation to provide additional funding in subsequent years. Funding for the second and third years of an award period also is contingent upon satisfactory performance, the availability of funds, and any other criteria established in the award agreement.

(d) Use of Materials

To ensure that materials generated with Corporation funding for the technical and administrative support for this program are available to the public and readily accessible to the field, the Corporation reserves a royalty-free, non-exclusive, and irrevocable right to obtain, use, reproduce, publish, or disseminate publications and materials produced under this agreement, including data, and to authorize others to do so. The provider must agree to make such publications and materials available to the national service field, as identified by the Corporation, at no cost or at the cost of reproduction. All materials developed for the Corporation must be consistent with Corporation editorial and publication guidelines and must be accessible to individuals with disabilities to the extent required by law.

V. Scope of Activities

The Corporation anticipates that it will be substantially involved in carrying out the program with the successful applicant providing administrative and technical support during all phases of the program. Corporation involvement will include approval of the final program design and implementation plan. The Corporation expects that the initial budget period under this award will be October 1, 2001 to September 30, 2002. The following three primary and 18 specific activities will be conducted:

(a) Conduct the Application and Review Process

(1) Prepare applications and disseminate them through national outreach activities.

(2) Coordinate state education agency involvement in the competitive and formula outreach and selection process.

(3) Provide implementation support to the state education agencies.

(4) Manage the national review and selection process.

(b) Provide Support to Leader Schools

(1) Monitor and report the progress of the selected schools. (Leader Schools serve for two years.)

(2) Coordinate communication with and among Leader Schools.

(3) Provide individualized technical assistance and facilitate peer-to-peer assistance.

(4) Plan and conduct an annual technical assistance Leadership Institute.

(5) Support Leader Schools as active service-learning leaders.

(c) Conduct Activities Related to Other Aspects of the Program

(1) Publicize the program through a variety of marketing strategies.

(2) Maintain contacts with the press.

(3) Maintain a web site and listserv for the program.

(4) Convene an advisory group annually.

(5) Plan for the possible expansion of the program to other educational levels.

(6) Revise program criteria and materials.

(7) Link the program with other recognition programs such as the President's Student Service Awards and Scholarships and with Corporation for National Service training activities such as the National Service-Learning Exchange.

(8) Develop and manage the re-certification process for schools to remain Leader Schools after two years.

(9) Report progress on all of the activities to the Corporation, as indicated in the following section.

VI. Reporting Requirements

The awardee is responsible for submitting timely progress and financial reports during and at the Conclusion of the award period to the Corporation as follows:

(a) Semi-annual progress reports.

Progress reports must be submitted semi-annually based on the following schedule:

Reporting periods | Reports due
October 1 to March 31 | April 30.
April 1 to September 30 | October 31.

The provider must develop the capacity to submit this information electronically.

At a minimum, progress reports must provide the following information:

(1) Comparison of accomplishments with the goals and objectives for the reporting period;

(2) Annotated version of the approved budget that compares actual costs with budgeted costs by line item and explains differences. The explanation should include, as appropriate, an analysis of cost overruns and high-cost units and a description of activities not anticipated in the original budget;

(3) Description of the activities, including a list of upcoming activities and events with dates; and

(4) Developments that hinder, or may hinder, compliance with the cooperative agreement.

(b) Financial reports must be submitted semi-annually to include a summary of expenditures during the period. A cumulative report must be submitted on the Financial Status Report (FSR) form SF 269A.

(c) Final reports.

(1) Awardees completing the final year of the agreement must submit, in lieu of the last semi-annual progress report, a final progress report that is cumulative over the entire award period. This final report is due within 90 days after the close of the agreement.

(2) Awardees completing the final year of the award must submit, in lieu of the last semi-annual FSR, a final FSR that is cumulative over the entire award period. This FSR is due within 90 days after the end of the agreement.

(d) Financial reports must be submitted in three (3) copies to the Office of Grants Management. Progress reports must be submitted in three (3) copies to the Corporation's cognizant program officer of the award.

VII. Application Guidelines

(a) Proposal Content and Submission

Applicants must submit one (1) unbound, original proposal and two (2) copies. The program narrative application must not exceed 25 double-spaced, single-sided, typed pages with at least one-inch margins and no smaller than 12-point font. You must complete the Standard Form 424 (SF 424)—Application for Federal Assistance, Standard Form 424A (SF424A)—Budget Forms, and Standard Form 424B (SF424B)— Assurances. These forms are available on the web at: http://www.nationalservice.org/whatshot/notices. Proposals may not be submitted by facsimile. Proposals must include the following:

(1) Cover Page

Include the name, address, phone number, fax number, e-mail address of the contact person and World Wide Web site URL (if available) of the applicant organization, and the total funding amount requested for the first year.

(2) Description of How and When the Three (3) Primary and 18 Specific Activities Will Be Implemented

(3) Description of Organizational Capacity to Provide the Technical and Administrative Support of This Initiative, Including Descriptions of Recent Work Similar to That Being Proposed

(4) Budget [Not Part of the Page Limit]

Include a detailed, line-item budget for the first year with costs organized by activities outlined in the work plan and a projected overall budget for the second and third years. Use Standard Form 424B for the first year budget information. Financial reporting throughout the term of the cooperative agreement must be organized so that all costs are attributed to specific activities. Costs in proposed budgets must consist solely of costs allowable under applicable cost principles found in OMB Circulars A-21, A-122, and/or A-87, as appropriate.

(5) Budget Narrative [Not Part of the Page Limit]

The budget narrative should parallel all items in the line-item budget and explain the cost basis for all cost estimates in the budget. Clearly show how each cost item was derived.

(6) Appendices [Not Part of the Page Limit; No More Than 5 Items]

Items may include referral to the address of an applicant-designed web site, brochures, other publicity items, and/or staff resumes.

(b) Selection Criteria

The Corporation will initially determine whether the organization is eligible and whether the application contains all of the information required. After the initial screening, the Corporation will assess applications based on the following criteria. Following the review process, the Corporation will notify applicants of their status in writing.

(1) Program Design (60%)

The quality of the applicant's proposed plan, including a description of how and when the applicant plans to meet each of the three (3) primary and 18 specific activities.

(2) Organizational Capacity (25%)

The applicant's organizational experience and capacity to carry out the activities described in this Notice, including the following components:

• Ability to provide sound programmatic and fiscal oversight;

• Experience of key personnel;

• Well-defined staff roles; and

• Well-designed plans evaluation plans.

(3) Budget and Cost Effectiveness (15%)

The extent to which:

• The budget is adequate to support the scope of the activities; and

• The proposed costs are reasonable in relation to the program's activities.

Dated: July 26, 2001.
Jodi Raybuck,
Acting Director, Department of Service-Learning, Corporation for National and Community Service.

[FR Doc. 01-19012 Filed 7-30-01; 8:45 am]

BILLING CODE 6050-$$-P